DEPARTMENT OF ENERGY

Federal Energy Regulatory Commission

Combined Notice of Filings #1

Take notice that the Commission received the following electric rate filings:

Docket Numbers: ER10-3069-003; ER10-3070-003.

Applicants: Alcoa Power Generating Inc., Alcoa Power Marketing LLC.

Description: Alcoa Power Generating Inc., et al. submit response to January 25, 2013 request for additional information.

Filed Date: 2/14/13.

Accession Number: 20130214-5182.

Comments Due: 5 p.m. ET 3/7/13.

Docket Numbers: ER13-639-000; ER13-640-000; ER13-641-000; ER13-642-000; ER13-643-000; ER13-644-000; ER13-653-000; ER13-646-000; ER13-647-000; ER13-648-000; ER13-649-000 ER13-650-000; ER13-651-000; ER13-652-000; ER10-2362-002; ER10-2363-002; ER10-2364-002; ER10-2365-002 ER10-2366-002; ER10-2367-002; ER11-4351-002.

Applicants: Broken Bow Wind, LLC, Coalinga Cogeneration Company, Kern River Cogeneration Company, Mid-Set Cogeneration Company, Salinas River Cogeneration Company, Sargent Canyon Cogeneration Company, Sycamore Cogeneration Company, Pinnacle Wind, LLC, Crofton Bluffs Wind, LLC, Elkhorn Ridge Wind, LLC, Laredo Ridge Wind, LLC, Taloga Wind, LLC, San Juan Mesa Wind Project, LLC, Wildorado Wind, LLC, Sleeping Bear, LLC, CL Power Sales Eight, L.L.C., CP Power Sales Nineteen, L.L.C., CP Power Sales Seventeen, L.L.C., CP Power Sales Twenty, L.L.C., Edison Mission Marketing & Trading, Inc., Edison Mission Solutions, L.L.C.

Description: Edison Mission Group Inc. entities Supplement to December 28, 2012 Triennial Market Power Analysis for the SPP Region.

Filed Date: 2/14/13.

Accession Number: 20130214-5113.

Comments Due: 5 p.m. ET 3/7/13.

Docket Numbers: ER13-938-000.

Applicants: Southwest Power Pool, Inc.

Description: Revisions to Attachment H Addendum 2-A Part 2—OG&E to be effective 8/2/2012.

Filed Date: 2/14/13.

Accession Number: 20130214-5159.

Comments Due: 5 p.m. ET 3/7/13.

Docket Numbers: ER13-939-000.

Applicants: North Carolina Electric Membership Corporation.

Description: Petition by North Carolina Electric Membership Corporation for Limited Waiver of certain PJM Interconnection, L.L.C. Open Access Transmission Tariff provisions.

Filed Date: 2/14/13.

Accession Number: 20130214-5190.

Comments Due: 5 p.m. ET 3/7/13.

Take notice that the Commission received the following electric securities filings:

Docket Numbers: ES13-17-000

Applicants: Northern Maine Independent System Administrator, Inc.

Description: Amendment to Application of Northern Maine Independent System Administrator, Inc.

Filed Date: 2/14/13.

Accession Number: 20130214-5187

Comments Due: 5 p.m. ET 2/25/13.

Take notice that the Commission received the following land acquisition reports:

Docket Numbers: LA12-3-000

Applicants: Bluegrass Generation Company, L.L.C., Blythe Energy, LLC, Calhoun Power Company, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, Wallingford Energy LLC.

Description: Supplement to October 13, 2012 Quarterly Land Acquisition Report of the LS Power Development, LLC MBR Sellers.

Filed Date: 2/14/13.

Accession Number: 20130214-5026.

Comments Due: 5 p.m. ET 3/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2013.
Nathaniel J. Davis, Sr.,
Deputy Secretary.

[FR Doc. 2013-04316 Filed 2-25-13; 8:45 am]

BILLING CODE 6717-01-P